NUCLEAR REGULATORY COMMISSION

[Docket Nos. 50-361-LA, 50-362-LA; ASLBP No. 12-923-01-LA-BD01]

Southern California Edison Company; Establishment of Atomic Safety and Licensing Board

Pursuant to delegation by the Commission, see 37 FR 28,710 (Dec. 29, 1972), and the Commission's regulations, see 10 CFR 2.104, 2.105, 2.300, 2.309, 2.313, 2.318, and 2.321, notice is hereby given that an Atomic Safety and Licensing Board (Board) is being established to preside over the following proceeding:

Southern California Edison Company (San Onofre Nuclear Generating Station, Units 2 and 3)

This proceeding involves a license amendment request by Southern California Edison Company to convert the Current Technical Specifications to be consistent with the most recently approved version of the Standard Technical Specifications for Combustion Engineering Plants, NUREG-1432, for its San Onofre Nuclear Generating Station, Units 2 and 3, located in San Diego County, California. In response to a notice of opportunity to request a hearing published in the Federal Register on August 16, 2012 (77 FR 49,463), a hearing request was submitted by Raymond Lutz on behalf of Citizens Oversight, Inc.

The Board is comprised of the following administrative judges:

Alex S. Karlin, Chair, Atomic Safety and Licensing Board Panel, U.S. Nuclear Regulatory Commission, Washington, DC 20555-0001;

Anthony J. Baratta, Atomic Safety and Licensing Board Panel, U.S. Nuclear Regulatory Commission, Washington, DC 20555-0001;

Nicholas G. Trikouros, Atomic Safety and Licensing Board Panel, U.S. Nuclear Regulatory Commission, Washington, DC 20555-0001.

All correspondence, documents, and other materials shall be filed in accordance with the NRC E-Filing rule, which the NRC promulgated in August 2007 (72 FR 49,139).

Issued at Rockville, Maryland, this 25th day of October 2012.
E. Roy Hawkens,
Chief Administrative Judge, Atomic Safety and Licensing Board Panel.

[FR Doc. 2012-26818 Filed 10-30-12; 8:45 am]

BILLING CODE 7590-01-P